NUCLEAR REGULATORY COMMISSION

Governors' Designees Receiving Advance Notification of Transportation of Nuclear Waste

On January 6, 1982 (47 FR 596 and 47 FR 600), the U.S. Nuclear Regulatory Commission (NRC) published in the Federal Register final amendments to 10 CFR parts 71 and 73 (effective July 6, 1982), that require advance notification to Governors or their designees by NRC licensees prior to transportation of certain shipments of nuclear waste and spent fuel. The advance notification covered in part 73 is for spent nuclear reactor fuel shipments and the notification for part 71 is for large quantity shipments of radioactive waste (and of spent nuclear reactor fuel not covered under the final amendment to 10 CFR part 73).

The following list updates the names, addresses, and telephone numbers of those individuals in each State who are responsible for receiving information on nuclear waste shipments. The list will be published annually in the Federal Register on or about June 30, to reflect any changes in information. Current State contact information can also be accessed throughout the year at http://www.hsrd.ornl.gov/nrc/special/designee.pdf.

Questions regarding this matter should be directed to Rosetta O. Virgilio, Office of State and Tribal Programs, U.S. Nuclear Regulatory Commission, Washington, DC 20555, by e-mail at rov@nrc.gov or by telephone at 301-415-2367.

Dated at Rockville, Maryland this 8th day of June 2006.
For the U.S. Nuclear Regulatory Commission.
Dennis K. Rathbun,
Deputy Director, Office of State and Tribal Programs.

Individuals Receiving Advance Notification of Nuclear Waste Shipments
State | Part 71 | Part 73
ALABAMA | Colonel W. M. Coppage, Director, Alabama Department of Public Safety, 500 Dexter Avenue, P.O. Box 1511, Montgomery, AL 36102-1511. (334) 242-4394, 24 hours: (334) 242-4128 | SAME.
ALASKA | Kim Stricklan, P.E., Alaska Department of Environmental Conservation, Solid Waste Program Manager, 555 Cordova Street, Anchorage, AK 99501. (907) 269-1099, 24 hours: (907) 457-1421 | SAME.
ARIZONA | Aubrey V. Godwin, Director, Arizona Radiation Regulatory Agency, 4814 South 40th Street, Phoenix, AZ 85040. (602) 255-4845, ext. 222, 24 hours: (602) 223-2212 | SAME.
ARKANSAS | Bernard Bevill, Division of Radiation Control and Emergency Management, Arkansas Department of Health, 4815 West Markham Street, Mail Slot #30, Little Rock, AR 72205-3867. (501) 661-2301, 24 hours: (501) 661-2136 | SAME.
CALIFORNIA | Captain R. Patrick, California Highway Patrol, Enforcement Services Division, 444 North 3rd St., Suite 310, P.O. Box 942898, Sacramento, CA 94298-0001. (916) 445-1865, 24 hours: 1-(916) 845-8931 | SAME.
COLORADO | Captain Allen Turner, Hazardous Materials Section, Colorado State Patrol, 700 Kipling Street, Suite 1000, Denver, CO 80215-5865. (303) 239-4546, 24 hours: (303) 239-4501 | SAME.
CONNECTICUT | Edward L. Wilds, Jr., PhD., Director, Division of Radiation, Department of Environmental Protection, 79 Elm Street, Hartford, CT 06106-5127. (860) 424-3029, 24 hours: (860) 424-3333 | SAME.
DELAWARE | David B. Mitchell, J.D., Secretary, Department of Safety & Homeland Security, P.O. Box 818, Dover, DE 19903. (302) 744-2665, 24 hours: Cell (302) 222-6590 | SAME.
FLORIDA | John Williamson, Environmental Administrator, Bureau of Radiation Control, Environmental Radiation Program, Department of Health, P.O. Box 680069, Orlando, FL 32868-0069. (407) 297-2095, 24 hours: (407) 297-2095 | SAME.
GEORGIA | Captain Bruce Bugg, Special Projects Coordinator, Georgia Department of Public Safety & Motor Carrier, P.O. Box 1456, 2206 East View Parkway, Atlanta, GA 30371-1456. (404) 624-7211, 24 hours: (404) 635-7200 | SAME.
HAWAII | Laurence K. Lau, Deputy Director for Environmental Health, Hawaii State Department of Health, P.O. Box 3378, 1250 Punchbowl Street, Suite 325, Honolulu, HI 96813. (808) 586-4424, 24 hours: (808) 368-6004 | SAME.
IDAHO | Lieutenant William L. Reese, Deputy Commander, Commercial Vehicle Safety, Idaho State Police, P.O. Box 700, Meridian, ID 83680-0700. (208) 884-7222, 24 hours: (208) 846-7500 | SAME.
ILLINOIS | Gary N. Wright, Assistant Director, Illinois Emergency Management Agency, Division of Nuclear Safety 1035 Outer Park Drive, 5th Floor, Springfield, IL 62704. (217) 785-9868, 24 hours: (217) 782-7860 | SAME.
INDIANA | Superintendent Paul Whitesell, PhD., Indiana State Police, Field Enforcement Division, IGCN 100 N Senate Avenue, 3rd Floor, Indianapolis, IN 46204. (317) 232-8248, Fax: 317-232-0652 | SAME.
IOWA | David Miller, Administrator, Iowa Homeland Security and Emergency Management Division, 7105 Northwest 70th Avenue, Camp Dodge, Building W-4, Johnston, IA 50131. 24 hours: (515) 281-3231, Fax: 515-725-3260 | SAME.
KANSAS | Frank H. Moussa, M.S.A., Technological Hazards Administrator, Department of the Adjutant General, Division of Emergency Management, 2800 SW Topeka Boulevard, Topeka, KS 66611-1287. (785) 274-1409, 24 hours: (785) 296-8013 | SAME.
KENTUCKY | Dewey Crawford, Manager, Radiation Health and Toxic Agents Branch, Cabinet for Health and Family Services, 275 East Main Street, Mail Stop HS-1C-A, Frankfort, KY 40621-0001. (502) 564-3700, ext. 3695, 24 hours: (502) 667-1637 | SAME.
LOUISIANA | Captain Robert Pinero, Louisiana State Police, 7919 Independence Boulevard, P.O. Box 66614 (#A2621), Baton Rouge, LA 70896-6614. (225) 925-6113, ext. 241, 24 hours: (877) 925-6595 | SAME.
MAINE | Colonel Craig Poulin, Chief of the State Police, Maine Department of Public Safety, 42 State House Station, Augusta, ME 04333-0042. (207) 624-7000 | SAME.
MARYLAND | Michael Bennett, Director Electronic Systems Division, Maryland State Police, 1201 Reisterstown Road, Pikesville, MD 21208. (410) 653-4229, 24 hours: (410) 653-4200 | SAME.
MASSACHUSETTS | Robert J. Walker, Director, Radiation Control Program, Massachusetts Department of Public Health, Shraffts Building, Mezzanine Level, 529 Main Street, Charlestown, MA 02129. (617) 242-3035 ext. 2001, 24 hours: (617) 427-2913 | SAME.
MICHIGAN | Captain Dan Atkinson, Commander, Field Operations Division, Michigan State Police, 714 South Harrison Road, East Lansing, MI 48823. (517) 336-6136, 24 hours: (517) 336-6100 | SAME.
MINNESOTA | Kevin C. Leuer, Director, Preparedness Branch, Minnesota Division of Homeland Security & Emergency Management, 444 Cedar Street, Suite 223, St. Paul, MN 55101-6223. (651) 201-7406, Fax: (651) 296-0459, 24 hours: (651) 649-5451 or 1-800-422-0798 | SAME.
MISSISSIPPI | Harrell B. Neal, Program Manager, Mississippi Emergency Management Agency, P.O. Box 4501,1410 Riverside Drive (Zip 39202), Fondren Station, Jackson, MS 39296-4501. (601) 366-6957, 24 hours: (601) 352-9100 | SAME.
MISSOURI | Ronald Reynolds, Director, Emergency Management Agency, P.O. Box 116, 2302 Militia Drive, Jefferson City, MO 65102. (573) 526-9101, 24 hours: (573) 751-2748 | SAME.
MONTANA | Dan McGowan, Administrator, Montana Disaster & Emergency Services Division, P.O. Box 4789, Fort Harrison, MT 59636-4789. 24 hours: (406) 841-3911 | SAME.
NEBRASKA | Colonel Bryan J. Tuma, Nebraska State Patrol, P.O. Box 94907, Lincoln, NE 68509-4907. (402) 479-4931, 24 hours: (402) 471-4545 | SAME.
NEVADA | Karen Beckley, Supervisor, Radiological Health Section, Bureau of Health Protection Services,Nevada State Health Division, 1179 Fairview Drive, Suite 102, Carson City, NV 89701-5405. (775) 687-5751, ext. 250, 24 hours: (775) 688-2830 | SAME.
NEW HAMPSHIRE | Lieutenant Nathan Boothby, Bureau Commander, Highway Patrol and Enforcement Bureau, New Hampshire Department of Safety, James H. Hayes Building, 23 Hazen Drive, Concord, NH 03305. (603) 271-2091, 24 hours: (603) 271-3636 | SAME.
NEW JERSEY | Kent Tosch, Chief, Bureau of Nuclear Engineering, Department of Environmental Protection, P.O. Box 415, Trenton, NJ 08625-0415. (609) 984-7700, 24 hours: (609) 658-3072 | SAME.
NEW MEXICO | Don Shainin, Hazards Materials Coordinator, New Mexico Department of Public Safety, Office of Emergency Management, P.O. Box 1628, Santa Fe, NM 87504-1628. (505) 476-9681, 24 hours: (505) 476-9635 | SAME.
NEW YORK | John R. Gibb, Director, New York State Emergency Management Office, 1220 Washington Avenue, Building 22—Suite 101, Albany, NY 12226-2251. (518) 292-2300, 24 hours: (518) 292-2200 | SAME.
NORTH CAROLINA | Lieutenant Mark Dalton, Hazardous Materials Coordinator, North Carolina Highway Patrol Headquarters North, 1142 SE Maynard Road, Cary, NC 27699-4702. (919) 319-1523, 24 hours: (919) 733-3861 | SAME.
NORTH DAKOTA | Terry L. O'Clair, Director, Division of Air Quality, North Dakota Department of Health, 918 East Divide Avenue—2nd Floor, Bismarck, ND 58501-1947. (701) 328-5188, 24 hours: (701) 328-9921 | SAME.
OHIO | Carol A. O'Claire, Chief, Radiological Branch, Ohio Emergency Management Agency, 2855 West Dublin Granville Road, Columbus, OH 43235-2206. (614) 799-3915, 24 hours: (614) 889-7150 | SAME.
OKLAHOMA | Commissioner Kevin L. Ward, Oklahoma Department of Public Safety, P.O. Box 11415, Oklahoma City, OK 73136-0145. (405) 425-2001, 24 hours: (405) 425-2323 | SAME.
OREGON | Ken Niles, Assistant Director, Nuclear Safety & Energy Siting Division, Oregon Department of Energy, 625 Marion Street, NE, Salem, OR 97301-3737. (503) 378-4906, 24 hours: (503) 378-6377 | SAME.
PENNSYLVANIA | John Bahnweg, Director of Operations and Training, Pennsylvania Emergency Management Agency, 2605 Interstate Drive, Harrisburg, PA 17110-3321. (717) 651-2120, 24 hours: (717) 651-2001 | SAME.
RHODE ISLAND | Terrence Mercer, Associate Administrator, Motor Carriers Section, Division of Public Utilities and Carriers, 89 Jefferson Boulevard, Warwick, RI 02888. (401) 941-4500, ext. 150, 24 hours: (401) 444-1183 | SAME.
SOUTH CAROLINA | Henry J. Porter, Assistant Director, Division of Waste Management, Bureau of Land and Waste Management, Department of Health & Environmental Control, 2600 Bull Street, Columbia, SC 29201. (803) 896-4245, 24 hours: (803) 253-6488 | SAME.
SOUTH DAKOTA | Kristi Turman, Director of Operations, Emergency Management Agency, 118 W. Capitol Avenue, Pierre, SD 57501-5070. (605) 773-3231 | SAME.
TENNESSEE | Elgan Usrey, Manager, Preparedness and Mitigation Division, Tennessee Emergency Management Agency, 3041 Sidco Drive, Nashville, TN 37204-1502. (615) 741-2879. After hours: (Inside TN) 1-800-262-3400, (Outside TN) 1-800-258-3300 | SAME.
TEXAS | Richard A. Ratliff, Chief, Texas Department of State Health Services, 1100 West 49th Street, Austin, TX 78756-3189. (512) 834-6679, 24 hours: (512) 458-7460. | Colonel Thomas A. Davis, Director, Texas Department of Public Safety, Attn: EMS Preparedness Section, P.O. Box 4087, Austin, TX 78773-0223. (512) 424-7771, 24 hours: (512) 424-2208.
UTAH | Dane Finerfrock, Director, Division of Radiation Control, Department of Environmental Quality, 168 North 1950 West, P.O. Box 144850, Salt Lake City, UT 84114-4850. (801) 536-4257 After hours: (801) 536-4123 | SAME.
VERMONT | Kerry L. Sleeper, Commissioner, Department of Public Safety, Division of State Police, 103 South Main Street, Waterbury, VT 05671-2101. (802) 244-8718, 24 hours: (802) 244-8727 | SAME.
VIRGINIA | Brett A. Burdick, Director, Technological Hazards Division, Virginia Department of Emergency Management, 10501 Trade Court, Richmond, VA 23236. (804) 897-6500, ext. 6569, 24 hours: (804) 674-2400 | SAME.
WASHINGTON | Daniel Eikum, Assistant State Fire Marshal, Washington State Patrol Fire Protection Bureau, P.O. Box 42600, Olympia, WA 98504-2600. (360) 570-3119, 24 hours: 1-800-409-4755 | SAME.
WEST VIRGINIA | Colonel D. L. Lemmon, Superintendent, West Virginia State Police, 725 Jefferson Road, South Charleston, WV 25309. (304) 746-2111 | SAME.
WISCONSIN | Johnnie L. Smith, Administrator, Wisconsin Emergency Management, P.O. Box 7865, Madison, WI 53707-7865. 608-242-3210, 24 hour: (608) 242-3232 | SAME.
WYOMING | Captain Vernon Poage, Support Services Officer, Commercial Carriers, Wyoming Highway Patrol, 5300 Bishop Boulevard, Cheyenne, WY 82009-3340. (307) 777-4317, 24 hours: (307) 777-4321 | SAME.
DISTRICT OF COLUMBIA | Gregory B. Talley, Program Manager, Radiation Protection Division, Bureau of Food, Drug & Radiation Protection, Department of Health, 51 N Street, NE., Room 6005, Washington, DC 20002. (202) 535-2320, 24 hours: (202) 727-1000 | SAME.
PUERTO RICO | Dr. Rosa Perez-Perdomo, Secretary of Health, P.O. Box 70184, San Juan, PR 00936-8184. (787) 274-7629 | SAME.
GUAM | Randel L. Sablan, Acting Administrator, Guam Environmental Protection Agency, P.O. Box 22439—Guam Main Facility, Barrigada, Guam 96921. (671) 457-1620, Fax: (671) 457-9402, 24 hours: (671) 635-9500 | SAME.
VIRGIN ISLANDS | Dean C. Plaskett, Esq., Commissioner, Department of Planning and Natural Resources, Cyril E. King Airport, Terminal Building—Second Floor, St. Thomas, Virgin Islands 00802. (340) 774-3320, 24 hours: (340) 774-5138 | SAME.
AMERICAN SAMOA | Pati Faiai, Government Ecologist, American Samoa Environmental Protection Agency, Office of the Governor, Pago Pago, American Samoa 96799. (684) 633-2304, 24 hours: (684) 622-7106 | SAME.
COMMONWEALTH OF THE NORTHERN MARIANA ISLANDS | Thomas B. Pangelinan, Secretary, Department of Lands & Natural Resources, Commonwealth of Northern Mariana Islands Government, P.O. Box 501304, Saipan, MP 96950, (670) 322-9830 | SAME.

[FR Doc. 06-5898 Filed 6-29-06; 8:45 am]

BILLING CODE 7590-01-P